DEPARTMENT OF TRANSPORTATION

Federal Aviation Administration

14 CFR Part 39

[Docket No. FAA-2008-1311; Directorate Identifier 2007-NE-48-AD; Amendment 39-15976; AD 2009-15-13]

RIN 2120-AA64

Airworthiness Directives; Honeywell International Inc., T5313 and T5317 Series Turboshaft Engines

AGENCY: Federal Aviation Administration (FAA), DOT.

ACTION: Final rule.

SUMMARY: The FAA is adopting a new airworthiness directive (AD) for Honeywell International Inc., T5313 and T5317 series turboshaft engines. This AD requires initial and repetitive visual inspections and initial and repetitive ultrasonic inspections of combustion chamber housings (CCHs) for cracks. This AD results from eight instances of cracks in CCHs. Two of the instances resulted in an engine shutdown during flight. We are issuing this AD to detect cracks in the CCH, which could result in rupture of the CCH, leading to loss of engine power and damage to the helicopter.

DATES: This AD becomes effective August 25, 2009. The Director of the Federal Register approved the incorporation by reference of certain publications listed in the regulations as of August 25, 2009.

ADDRESSES: You can get the service information identified in this AD from Honeywell International Inc., P.O. Box 52181, Phoenix, AZ 85072-2181, U.S.A.; telephone (800) 601-3099 (U.S.A.) or (602) 365-3099 (International), Web site: http://portal.honeywell.com/wps/portal/aero.

The Docket Operations office is located at Docket Management Facility, U.S. Department of Transportation, 1200 New Jersey Avenue, SE., West Building Ground Floor, Room W12-140, Washington, DC 20590-0001.

FOR FURTHER INFORMATION CONTACT: Robert Baitoo, Aerospace Engineer, Los Angeles Aircraft Certification Office, FAA, Transport Airplane Directorate, 3960 Paramount Blvd., Lakewood, CA 90712-4137; e-mail: robert.baitoo@faa.gov; telephone (562) 627-5245; fax (562) 627-5210.

SUPPLEMENTARY INFORMATION: The FAA proposed to amend 14 CFR part 39 with a proposed AD. The proposed AD applies to Honeywell International Inc., T5313 and T5317 series turboshaft engines. We published the proposed AD in the Federal Register on December 16, 2008 (73 FR 76291). That action proposed to require initial and repetitive visual inspections and initial and repetitive ultrasonic inspections of CCHs for cracks.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

Comments

We provided the public the opportunity to participate in the development of this AD. We received no comments on the proposal or on the determination of the cost to the public.

Change to Optional Terminating Action Paragraph

We changed optional terminating action paragraph (k) to state that installation of a CCH P/N 1-130-610-19 or 1-130-610R16 terminates the inspection requirements of this AD. These CCHs eliminate the failure mode that cause cracking.

Incorporation by Reference of Service Bulletin Appendix

Since we issued the proposed AD, we realized that we need to add the incorporation by reference of the Appendix of Honeywell International Inc. Service Bulletin No. T53-0144, Revision 4, dated March 31, 2008 for operators to perform the ultrasonic inspections. We added that reference to inspection paragraphs (i) and (j) of this AD.

Conclusion

We have carefully reviewed the available data and determined that air safety and the public interest require adopting the AD with the changes described previously.

Costs of Compliance

We estimate that this AD will affect 100 engines installed on helicopters of U.S. registry. We also estimate that it will take about 3 work-hours per engine to perform the actions, and that the average labor rate is $80 per work-hour. No parts are required. Based on these figures, we estimate the total cost of the AD to U.S. operators to be $24,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2009-15-13 Honeywell International Inc. (Formerly AlliedSignal and Textron-Lycoming): Amendment 39-15976. Docket No. FAA-2008-1311; Directorate Identifier 2007-NE-48-AD.

Effective Date

(a) This airworthiness directive (AD) becomes effective August 25, 2009.

Affected ADs

(b) None.

Applicability

(c) This AD applies to Honeywell International Inc. T5313B, T5317A, T5317A-1, T5317B, and T5317BCV turboshaft engines with combustion chamber housing (CCH), part numbers (P/Ns) 1-130-610-05, 1-130-610-12, and 1-130-610-17, installed. These engines are installed on, but not limited to, Bell 205 and 210 Series and Kaman K-1200 helicopters.

Unsafe Condition

(d) This AD results from eight instances of cracks in CCHs. Two of the instances resulted in an engine shutdown during flight. We are issuing this AD to detect cracks in the CCH, which could result in rupture of the CCH, leading to loss of engine power and damage to the helicopter.

Compliance

(e) You are responsible for having the actions required by this AD performed within the compliance times specified unless the actions have already been done.

Initial Visual Inspection

(f) For CCH, P/N 1-130-610-05 and 1-130-610-12, within 50 hours time-in-service (TIS) after the effective date of this AD, inspect the area between points A and B around the entire housing circumference in Figure 1 of this AD for weld repairs and cracks.

(1) If you find any cracks, replace the CCH before further flight. Honeywell International Inc. Alert Service Bulletin (ASB) T53-A0142, Revision 1, dated September 14, 2006, contains additional guidance on replacing the CCH.

(2) If you find any weld repairs, replace the CCH within 100 hours TIS after the visual inspection. Honeywell International Inc. ASB T53-A0142, Revision 1, dated September 14, 2006, contains additional guidance on replacing the CCH.

Repetitive Visual Inspections

(g) For CCH, P/N 1-130-610-05 and 1-130-610-12, inspect the area between points A and B around the entire housing circumference in Figure 1 of this AD for cracks within every 50 hours time-since-last inspection. Honeywell International Inc. Standard Practices Manual 70-20-02, SP 1302, contains additional guidance on visual inspection.

(h) If you find any cracks, replace the CCH before further flight. Honeywell International Inc. ASB T53-A0142, Revision 1, dated September 14, 2006, contains additional guidance on replacing the CCH.

Initial Ultrasonic Inspection

(i) Perform an ultrasonic inspection on the CCH. Use Honeywell International Inc. Service Bulletin (SB) No. T53-0144, Revision 4, dated March 31, 2008, section 3. Accomplishment Instructions and the SB Appendix to perform the ultrasonic inspection at the following compliance times.

(1) For CCH, P/N 1-130-610-05 and 1-130-610-12, within 500 hours TIS or next hot section inspection, whichever occurs first after the effective date of this AD, but not to exceed 6 months after the effective date of this AD.

(2) For CCH, P/N 1-130-610-17, perform at the first overhaul, but do not exceed 5,000 hours or 11,000 cycles, after the effective date of this AD, whichever occurs first.

Repetitive Ultrasonic Inspections

(j) Repeat the ultrasonic inspection on the CCH using Honeywell International Inc. SB No. T53-0144, Revision 4, dated March 31, 2008, section 3. Accomplishment Instructions and the SB Appendix at the following compliance times:

(1) Within every 1,200 flights, defined as the cumulative number of landings, since the last inspection; or

(2) Within every 200 flights, if the last inspection had ultrasonic findings as defined in paragraph 3.A.(2) or paragraph 3.A.(3) of Honeywell International Inc. SB No. T53-0144, Revision 4, dated March 31, 2008.

Optional Terminating Action

(k) Installation of a CCH P/N 1-130-610-19 or 1-130-610R16, or an FAA approved equivalent part, terminates the inspection requirements of this AD.

Alternative Methods of Compliance

(l) The Manager, Los Angeles Aircraft Certification Office, has the authority to approve alternative methods of compliance for this AD if requested using the procedures found in 14 CFR 39.19.

Related Information

(m) Honeywell International Inc. ASB T53-A0142, Revision 1, dated September 14, 2006, and Standard Practices Manual 70-20-02, SP 1302, pertain to the subject of this AD. Contact Honeywell International Inc., P.O. Box 52181, Phoenix, AZ 85072-2181; telephone (800) 601-3099, Web site: http://portal.honeywell.com/wps/portal/aero, for a copy of this service information.

(n) Contact Robert Baitoo, Aerospace Engineer, Los Angeles Aircraft Certification Office, FAA, Transport Airplane Directorate, 3960 Paramount Blvd., Lakewood, CA 90712-4137; e-mail: robert.baitoo@faa.gov; telephone (562) 627-5245; fax (562) 627-5210, for more information about this AD.

Material Incorporated by Reference

(o) You must use the service information specified in the following Table 1 to perform the ultrasonic inspections required by this AD. The Director of the Federal Register approved the incorporation by reference of the documents listed in the following Table 1 in accordance with 5 U.S.C. 552(a) and 1 CFR part 51. Contact Honeywell International Inc., P.O. Box 52181, Phoenix, AZ 85072-2181; telephone (800) 601-3099, Web site: http://portal.honeywell.com/wps/portal/aero, for a copy of this service information. You may review copies at the FAA, New England Region, 12 New England Executive Park, Burlington, MA; or at the National Archives and Records Administration (NARA). For information on the availability of this material at NARA, call 202-741-6030, or go to: http://www.archives.gov/federal-register/cfr/ibr-locations.html.

Table 1—Incorporation by Reference
Honeywell International Inc. Service Bulletin No. | Page | Revision | Date
T53-0144, Total Pages: 10 | ALL | 4 | March 31, 2008.
T53-0144, Appendix, Total Pages: 13 | ALL | C | January 25, 2008.

Issued in Burlington, Massachusetts, on July 14, 2009.
Peter A. White,
Assistant Manager, Engine and Propeller Directorate, Aircraft Certification Service.

[FR Doc. E9-17146 Filed 7-20-09; 8:45 am]

BILLING CODE 4910-13-P